DEPARTMENT OF JUSTICE

Antitrust Division

Notice Pursuant to the National Cooperative Research and Production Act of 1993—Joint Venture Under Tip Award No. 70NANB10H014 To Perform Project Entitled: Automated Nondestructive Evaluation and Rehabilitation System (ANDERS) for Bridge Decks

Notice is hereby given that, on January 28, 2010, pursuant to Section 6(a) of the National Cooperative Research and Production Act of 1993, 15 U.S.C. 4301 et seq. (the Act”), the Joint Venture under TIP Award No. 70NANB10H014 to Perform Project Entitled: Automated Nondestructive Evaluation and Rehabilitation System (“ANDERS”) for Bridge Decks has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Rutgers, the State University of New Jersey, New Brunswick, NJ; Drexel University, Philadelphia, PA; PD-LD, INC., Pennington, NJ; Mala GeoScience USA, Inc., Charleston, SC; and Pennoni Associates Inc., Philadelphia, PA. The general area of ANDERS' planned activity is to provide a uniquely comprehensive tool that will transform the manner in which bridge decks are assessed and rehabilitated, and to provide a unique tool that enables the sustainable management of aging bridge stock through (1) a much higher evaluation detail and comprehensiveness of detection at an early stage 2 deterioration for far less cost and time than traditional approaches or fragmented NDE, (2) comprehensive condition and structural assessment (including the understanding of effects of local deterioration on global performance) at all stages of deterioration, and (3) integrated assessment and rehabilitation that will be nondestructive, rapid, cost effective and implementable at all stages of deterioration.

Patricia A. Brink,
Deputy Director of Operations, Antitrust Division.

[FR Doc. 2010-6260 Filed 3-23-10; 8:45 am]

BILLING CODE 4410-11-M